DEPARTMENT OF THE INTERIOR

National Park Service

[NPS-WASO-NAGPRA-23122; PPWOCRADN0-PCU00RP14.R50000]

Notice of Inventory Completion: Allen County-Fort Wayne Historical Society, Fort Wayne, IN

AGENCY: National Park Service, Interior.

ACTION: Notice.

SUMMARY: The Allen County-Fort Wayne Historical Society has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Allen County-Fort Wayne Historical Society. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Allen County-Fort Wayne Historical Society at the address in this notice by June 2, 2017.

ADDRESSES: Walter Font, Curator, Allen County-Fort Wayne Historical Society, 302 East Berry Street, Fort Wayne, IN 46802, telephone (260) 426-2882, email wfont@comcast.net.

SUPPLEMENTARY INFORMATION: Notice is here given in accordance with the Native American Graves Protection and Repatriation Act (NAGPRA), 25 U.S.C. 3003, of the completion of an inventory of human remains and associated funerary objects under the control of the Allen County-Fort Wayne Historical Society, Fort Wayne, IN. The human remains and associated funerary objects were removed from multiple counties in the State of Indiana.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Allen County-Fort Wayne Historical Society professional staff in consultation with the Indiana University-Purdue University, Fort Wayne, Archaeology Survey office and representatives of the Miami Tribe of Oklahoma and the Pokagon Band of Potawatomi Indians, Michigan and Indiana.

History and Description of the Remains

On an unknown date, human remains representing, at minimum, one individual were removed from the Cunison Farm in Allen County, IN. At some time prior to 1926, the human remains were donated to the Allen County-Fort Wayne Historical Society by Charles L. Cunison. The human remains consist of an ulna and bone fragments from one individual, age and sex indeterminate. No known individual was identified. The 3 associated funerary objects are 1 knife blade, 1 textile remnant, and 1 iron tomahawk.

On an unknown date, human remains representing, at minimum, one individual were removed from Swinney Park in Allen County, IN. At some time prior to 1947, the human remains were donated to the Allen County-Fort Wayne Historical Society by Charles Freese. The human remains consist of a skull and identified as a young female, age indeterminate. No known individual was identified. The 1 associated funerary object is 1 brass pot with iron bail.

At some time between 1794 and 1814, human remains representing, at minimum, one individual were acquired from an unknown location during a conflict at or near Fort Wayne, IN, and were received by the Allen County-Fort Wayne Historical Society from the heirs of F. P. Randall at some time prior to 1926. The human remains consist of a length of dark hair, age and sex indeterminate. No known individual was identified. No associated funerary objects are present.

Dates for these site locations are late 1700s to early 1800s. The sites are related to the Miami Tribe of Oklahoma, whose tribal lands were located in Northeast Indiana from 1710 to the early 1800s. The principal villages were at or near the present location of Fort Wayne, IN, primarily in the Spy Run district and the Lakeside area in Fort Wayne.

Determinations Made by the Allen County-Fort Wayne Historical Society

Officials of the Allen County-Fort Wayne Historical Society have determined that:

• Pursuant to 25 U.S.C. 3001(9), the human remains described in this notice represent the physical remains of 3 individuals of Native American ancestry.

• Pursuant to 25 U.S.C. 3001(3)(A), the 4 objects described in this notice are reasonably believed to have been placed with or near individual human remains at the time of death or later as part of the death rite or ceremony.

• Pursuant to 25 U.S.C. 3001(2), there is a relationship of shared group identity that can be reasonably traced between the Native American human remains and associated funerary objects and the Miami Tribe of Oklahoma.

Additional Requestors and Disposition

Lineal descendants or representatives of any Indian tribe or Native Hawaiian organization not identified in this notice that wish to request transfer of control of these human remains and associated funerary objects should submit a written request with information in support of the request to Walter Font, Curator, Allen County-Fort Wayne Historical Society, 302 East Berry Street, Fort Wayne, IN 46802, telephone (260) 426-2882, email wfont@comcast.net, by June 2, 2017. After that date, if no additional requestors have come forward, transfer of control of the human remains and associated funerary objects to the Miami Tribe of Oklahoma may proceed.

The Allen County-Fort Wayne Historical Society is responsible for notifying the Miami Tribe of Oklahoma and the Pokagon Band of Potawatomi Indians, Michigan and Indiana, that this notice has been published.

Dated: March 21, 2017.
Melanie O'Brien,
Manager, National NAGPRA Program.

[FR Doc. 2017-08874 Filed 5-2-17; 8:45 am]

BILLING CODE 4312-52-P